DEPARTMENT OF LABOR

Occupational Safety and Health Administration

[Docket No. ICR-1218-0185 (2006)]

The Cadmium in General Industry Standard; Extension of the Office of Management and Budget's (OMB) Approval of Information Collection (Paperwork) Requirements

AGENCY: Occupational Safety and Health Administration (OSHA), Labor.

ACTION: Request for public comment.

SUMMARY: OSHA solicits public comment concerning its request for an extension of the information collection requirements contained in the Cadmium in General Industry Standard (29 CFR 1910.1027). This standard controls occupational exposure to cadmium, thereby preventing serious disease (e.g., lung cancer, prostate cancer, kidney disease) and death among exposed employees.

DATES: Comments must be submitted by the following dates:

Hard copy: Your comments must be submitted (postmarked or received) by December 27, 2005.

Facsimile and electronic transmission: Your comments must be received by December 27, 2005.

ADDRESSES: You may submit comments, identified by OSHA Docket No. ICR-1218-0185 (2006), by any of the following methods:

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., ET.

Facsimile: If your comments are 10 pages or fewer in length, including attachments, you may fax them to the OSHA Docket Office at (202) 693-1648.

Electronic: You may submit comments through the Internet at http://ecomments.osha.gov. Follow instructions on the OSHA Web page for submitting comments.

Docket: For access to the docket to read or download comments or background materials, such as the complete Information Collection Request (ICR) (containing the Supporting Statement, OMB-83-I Form, and attachments), go to OSHA's Web page at http://www.OSHA.gov. In addition, the ICR, comments and submissions are available for inspection and copying at the OSHA Docket Office at the address above. You may also contact Todd Owen at the address below to obtain a copy of the ICR. For additional information on submitting comments, please see the “Public Participation” heading in the SUPPLEMENTARY INFORMATION section of this document.

FOR FURTHER INFORMATION CONTACT: Todd Owen, Directorate of Standards and Guidance, OSHA, Room N-3609, 200 Constitution Avenue, NW., Washington, DC 20210, telephone: (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)). This program ensures that information is in the desired format, reporting burden (time and costs) is minimal, collection instruments are clearly understood, and OSHA's estimate of the information collection burden is accurate. The Occupational Safety and Health Act of 1970 (the Act) (29 U.S.C. 651 et seq.) authorizes information collection by employers as necessary or appropriate for enforcement of the Act or for developing information regarding the causes and prevention of occupational injuries, illnesses, and accidents (29 U.S.C. 657).

On January 5, 2005, OSHA published the final rule for the Standards Improvement Project—Phase II (70 FR 1112). The final rule removed and revised provisions of standards that were outdated, duplicative, unnecessary, or inconsistent, and clarified or simplified regulatory language. The final rule contained several revisions to collections of information contained in the Cadmium Standard. These revisions included: removing the word “signed” that appears in the introductory sentence in paragraph (1)(10)(1) of the Standard; and allowing employers the option of posting employee-monitoring results, or individually informing each employee of these results. Those changes reduced paperwork burden hours while maintaining worker protection and improving consistency among standards.

The information collection requirements specified in the Cadmium in General Industry Standard protect employees from the adverse health effects that may result from occupational exposure to cadmium. The major information collection reuqirements in the Standard include conducting employee exposure monitoring, notifying employees of their cadmium exposures, implementing a written compliance program, implementing medical-surveillance of employees, providing examining physicians with specific information, ensuring that employees receive a copy of their medical-surveillance results, maintaining employees' exposure-monitoring and medical-surveillance records for specific periods, and providing access to these records by OSHA, the National Institute for Occupational Safety and Health, the employee who is the subject of the records, the employee's representative, and other designated parties.

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA is requesting that OMB extend the approval of the collection of information (paperwork) requirements necessitated by the Cadmium in General Industry Standard (29 CFR 1910.1027). As part of this proposal, the Agency is requesting a 167-hour burden reduction (adjustment) resulting from not identifying any new employers who will gather information necessary to meet the objective data requirements required specified by paragraph § 1910.1027(d)(2)(iii) of the Standard. The Agency will summarize the comments submitted in response to this notice, and will include this summary in its request to OMB to extend its approval of these information collection requirements.

Type of Review: Extension of currently approved information collection requirements.

Title: Cadmium in General Industry Standard.

OMB Number: 1218-0185.

Affected Public: Business or other for-profits; Federal government; State, local, or tribal government.

Number of Respondents: 53,161.

Frequency: On occasion; quarterly; semi-annually; annually.

Average Time Per Response: Varies from five minutes (.08 hour) for several provisions (e.g., maintaining an employee's exposure-monitoring or medical-surveillance record, providing information about an employee to the physician) to 1.5 hours to review and update a compliance program or administer an employee medical examination.

Estimated Total Burden Hours: 121,177.

Estimated Cost (Operation and Maintenance): $6,190,817.

IV. Public Participation—Submission of Comments on This Notice and Internet Access to Comments and Submissions

You may submit comments and supporting materials in response to this notice by (1) hard copy, (2) FAX transmission (facsimile), or (3) electronically through the OSHA Web page. Because of security-related problems, there may be a significant delay in the receipt of comments by regular mail. Please contact the OSHA Docket Office at (202) 693-2350 (TTY (887) 889-5627) for information about security procedures concerning the delivery of submissions by express delivery, hand delivery, and courier service.

All comments, submissions and background documents are available for inspection and copying at the OSHA Docket Office at the above address. Comments and submissions posted on OSHA's Web page are available at http://www.OSHA.gov. Contact the OSHA Docket Office for information about materials not available through the OSHA Web page and for assistance using the Web page to locate docket submissions.

Electronic copies of this Federal Register notice as well as other relevant documents are available on OSHA's Web page. Since all submissions become public, private information such as social security numbers should not be submitted.

V. Authority and Signature

Jonathan L. Snare, Acting Assistant Secretary of Labor for Occupational Safety and Health, directed the preparation of this notice. The authority for this notice is the Paperwork Reduction Act of 1995 (44 U.S.C. 3506 et seq.), and Secretary of Labor's Order No. 5-2002 (67 FR 65008).

Signed at Washington, DC, on October 21, 2005.
Jonathan L. Snare,
Acting Assistant Secretary of Labor.

[FR Doc. 05-21481 Filed 10-26-05; 8:45 am]

BILLING CODE 4510-26-M